SECURITIES AND EXCHANGE COMMISSION

[File No. 500-1]

In the Matter of GSB Financial Services Inc.; Order of Suspension of Trading

August 19, 2005.

It appears to the Securities and Exchange Commission that there is a lack of current and accurate information concerning the securities of GSB Financial Services Inc. (“GSBF”) because of possible manipulative acts, taken by individuals associated with the company, in connection with the market for the company's stock.

The Commission is of the opinion that the public interest and the protection of investors require a suspension of trading in the securities of the above-listed company.

Therefore, it is ordered, pursuant to section 12(k) of the Securities Exchange Act of 1934, that trading in the above-listed company is suspended for the period from 9:30 a.m. e.d.t., on August 19, 2005 through 11:59 p.m. e.d.t., on September 1, 2005.

By the Commission.
Jonathan G. Katz,
Secretary.

[FR Doc. 05-16784 Filed 8-19-05; 11:46 am]

BILLING CODE 8010-01-P